DEPARTMENT OF JUSTICE

Notice of Lodging of Proposed Consent Judgment Under The Resource Conservation and Recovery Act

On December 18, 2013, the Department of Justice lodged a proposed Consent Judgment with the United States District Court for the Eastern District of New York in the lawsuit entitled United States v. County of Suffolk, Civil Action No. CV-13-7183.

Defendant County of Suffolk (“Suffolk”) has owned and/or operated at least 68 underground storage tanks (“USTs”) containing gasoline and waste oil throughout Suffolk County. The complaint seeks civil penalties and injunctive relief for Suffolk's violations of Resource Conservation and Recovery Act regulations governing USTs, set forth at 40 CFR Part 280. The complaint also alleges violation of federally enforceable New York State hazardous waste regulations set forth at 6 N.Y.C.R.R. § 372.2(a)(2) governing disposal of spent fluorescent lamps. The Consent Judgment requires Suffolk: (a) to pay a civil penalty of $500,000; (b) to fund a Supplemental Environmental Project in the amount of $1,500,000 to acquire an interest in land, and to manage such land and any associated ecological resources, into perpetuity, to protect and/or enhance groundwater; (c) to maintain compliance with RCRA requirements for all of its underground storage tanks and with NYS regulations in its handling of spent fluorescent lamps; and (d) to submit regular reports to EPA for four years to demonstrate that they are in compliance.

The publication of this notice opens a period for public comment on the Consent Judgment. Comments should be addressed to the Assistant Attorney General, Environment and Natural Resources Division, and should refer to United States v. County of Suffolk, D.J. Ref. No. 90-7-1-09883. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Judgment may be examined and downloaded at this Justice Department Web site: http://www.usdoj.gov/enrd/Consent_Decrees.html. We will provide a paper copy of the Consent Judgment upon written request and payment of reproduction costs. Please mail your request and payment to: Consent Decree Library, U.S. DOJ-ENRD, P.O. Box 7611, Washington, DC 20044-7611.

Please enclose a check or money order for $15.75 (25 cents per page reproduction cost) payable to the United States Treasury.

Maureen Katz,
Assistant Section Chief, Environmental Enforcement Section, Environment and Natural Resources Division.

[FR Doc. 2014-00182 Filed 1-9-14; 8:45 am]

BILLING CODE 4410-15-P